DEPARTMENT OF STATE

[Public Notice 8090]

Advisory Committee on Historical Diplomatic Documentation; Notice of Meeting

SUMMARY: The Advisory Committee on Historical Diplomatic Documentation's meeting location on December 10-11, 2012 has changed from that provided in the previous Federal Register Notice at 77 FR 5292, February 2, 2012. The new location will be at the National Archives in College Park, MD on December 10, 2012; and in room 1205 of the Harry S. Truman building of Main State on December 11, 2012. The Committee's sessions in the morning and afternoon of Monday, December 10, 2012 will be closed in accordance with Section 10(d) of the Federal Advisory Committee Act (Pub. L. 92-463). The agenda calls for discussions of agency declassification decisions concerning the Foreign Relations series and other declassification issues. These are matters properly classified and not subject to public disclosure under 5 U.S.C. 552b(c)(1) and the public interest requires that such activities be withheld from disclosure.

The Committee will meet in open session from 11:00 a.m. until 12:00 noon on Tuesday, December 11, 2012, in the Department of State, 2201 “C” Street NW., Washington, DC, in Conference Room 1205, to discuss declassification and transfer of Department of State records to the National Archives and Records Administration and the status of the Foreign Relations series.

Prior notification and a valid government-issued photo ID (such as driver's license, passport, U.S. government or military ID) are required for entrance into the building. Members of the public planning to attend the meeting on December 11, 2012, RSVP to Colby Prevost, Office of the Historian (202-663-1147) no later than December 6, 2012. When responding, please provide date of birth, valid government-issued photo identification number and type (such as driver's license number/state, passport number/country, or U.S. government ID number/agency or military ID number/branch), and relevant telephone numbers. If you cannot provide one of the specified forms of ID, please consult with Colby Prevost for acceptable alternative forms of picture identification.

In addition, any requests for reasonable accommodation should be made no later than December 4 for the December 11th meeting. Requests for reasonable accommodation received after those dates will be considered, but might be impossible to fulfill.

Personal data is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at http://www.state.gov/documents/organization/103419.pdf, for additional information.

Questions concerning the meeting should be directed to Stephen P. Randolph, Executive Secretary, Advisory Committee on Historical Diplomatic Documentation, Department of State, Office of the Historian, Washington, DC 20520, telephone (202) 663-1123, (email history@state.gov).

Dated: November 13, 2012
Stephen P. Randolph,
Executive Secretary, Advisory Committee on Historical, Diplomatic Documentation, Department of State.

[FR Doc. 2012-28324 Filed 11-20-12; 8:45 am]

BILLING CODE 4710-11-P